DEPARTMENT OF HOMELAND SECURITY

Coast Guard

[USCG-2016-0080]

Establishment of Dispersant Preauthorization Area in Alaska

AGENCY: Coast Guard, DHS.

ACTION: Notice of establishment of dispersant preauthorization plan.

SUMMARY: On behalf of the Alaska Regional Response Team (ARRT), the U.S. Coast Guard (USCG) announces establishment of a more inclusive, comprehensive, and conservative dispersant use policy that includes a preauthorization area and an enhanced protocol for use of chemical dispersant during responses to spills of crude oil in certain waters offshore of Alaska. Federal regulations covering certain vessel response plans require development of defined dispersant response capabilities when such vessels are operating in waters where dispersant use preauthorization agreements exist.

DATES: Plan holders for affected vessel response plans have 24 months from the date of publication of this notice to achieve compliance.

FOR FURTHER INFORMATION CONTACT: For information about this document: From USCG: call or email Mark Everett, Incident Management & Preparedness Advisor, Seventeenth Coast Guard District, Juneau, AK; telephone (907) 463-2804; email Mark.Everett@uscg.mil;

From Environmental Protection Agency (EPA): call or email Chris Field, Program Manager, Emergency Management Program (EPA Region 10); telephone (206) 553-1674; email Field.Chris@epa.gov;

For the State of Alaska: call or email Gary Folley, Program Manager, Prevention, Preparedness & Response Program, Division of Spill Prevention & Response, Alaska Department of Environmental Conservation; telephone (907) 262-3411; email gary.folley@alaska.gov.

SUPPLEMENTARY INFORMATION:

Public Participation and Comments

Because this notice is non-rulemaking, no public participation or comments are being taken. Questions can be directed to any person named in the FOR FURTHER INFORMATION CONTACT section, above.

Discussion

The Alaska Regional Response Team (ARRT) is one of 13 interagency, intergovernmental groups responsible under the National Oil and Hazardous Substances Pollution Contingency Plan (a.k.a. National Contingency Plan or NCP) at 40 CFR part 300 for regional planning, including policy development, and coordination of preparedness and response actions related to discharges of oil and releases of hazardous materials and other pollutants and contaminants into the environment. The ARRT's responsibilities include development of policies regarding the preauthorization of certain alternative (non-mechanical) countermeasures, including chemical dispersants, used in oil spill response operations.

Preauthorization for use of dispersants has not existed in the Alaska region since September 2008. This new policy change will allow for industry to develop a reliable, regulated dispersant use capability to be available to mitigate—if directed by the Federal On Scene Coordinator—large crude oil spills more readily. However, extensive government, tribal, and other stakeholder notifications would be required before use.

Following a multi-year collaborative effort among governmental agencies as described in the NCP at 40 CFR 300.910, the ARRT signed a new Dispersant Use Plan for Alaska (Appendix I, Annex F, Alaska Federal/State Preparedness Plan for Response to Oil & Hazardous Substance Discharges/Releases [Unified Plan]) on January 27, 2016. This document includes, among other things, an updated protocol for use and monitoring of chemical dispersants in undesignated areas on a case-by-case basis and a preauthorization plan for use and monitoring of chemical dispersants on spills from tank vessels carrying crude oil as cargo during non-innocent passage through certain areas north and south of the Aleutian Island chain and the northern Gulf of Alaska. The Dispersant Use Plan for Alaska may be found at www.alaskarrt.org.

U.S. Coast Guard enforcement of the requirements of 33 CFR 154.1035 and 1045 and 33 CFR 155.1035, and 1050 depends upon existence of a dispersant preauthorization plan (including a preauthorization area) which complies with the requirements of the NCP, specifically at 40 CFR 300.910. Enforcement of the preauthorization area compliance requirements will take effect 24 months after publication of this notice to allow plan holders time to achieve compliance.

Development of the Dispersant Use Plan for Alaska included compliance with the consultation (with National Marine Fisheries Service and U.S. Fish & Wildlife Service) requirements of section 7 of the Endangered Species Act (ESA), Essential Fish Habitat (EFH) analysis required by the Magnusson-Stevens Fisheries Conservation and Management Act, consideration of the requirements of the Marine Mammal Protection Act (MMPA), outreach to affected communities and stakeholder groups, compliance with State of Alaska public notice requirements, and consultation with federally-recognized tribes as required by Executive Order 13175. Implementation of the new policy includes a 24-month timeline for development of dispersant areas to be avoided within geographic subareas covered by the preauthorization area. It also includes industry establishing sufficient dispersant capability in locales to be available for potential authorization for use by the Federal On Scene Coordinator during a spill response. Failure to establish dispersant areas to be avoided within geographic subareas covered by the preauthorization area will result in the entire geographic subarea reverting to the case-by-case dispersant use protocol used in undesignated areas until such time as dispersant use avoidance areas are developed.

This notice is issued under authority of the Oil Pollution Act of 1990 and Executive Order 12777.

Dated: January 28, 2016.
M.L. Everett,
Incident Management & Preparedness Advisor, U.S. Coast Guard District Seventeen.

[FR Doc. 2016-02559 Filed 2-8-16; 8:45 am]

BILLING CODE 9110-04-P